DEPARTMENT OF AGRICULTURE

Forest Service

Information Collection; Request for Comments; Timber Sale Operating Plans

AGENCY: Forest Service, USDA.

ACTION: Notice.

SUMMARY: In accordance with the Paperwork Reduction Act of 1995, the Forest Service announces its intention to extend a previously approved information collection. The collected information will help the Forest Service facilitate contract administration of timber sales on timber on National Forest System lands. Information will be collected from purchasers of this timber.

DATES: Comments must be received in writing on or before August 28, 2000.

ADDRESSES: All comments should be addressed to Rex Baumback, Forest Management, Mail Stop 1105, Forest Service, USDA, P.O. Box 96090, Washington, DC 20090-6090.

Comments also may be submitted via facsimile to (202) 205-1045 or by email to rbaumback@fs.fed.us.

The public may inspect comments received in the Office of the Director, Forest Management Staff, Forest Service, USDA, Room 3NW, Yates Building, 201 14th Street, SW., Washington, D.C. Callers are urged to call ahead to facilitate entrance into the building.

FOR FURTHER INFORMATION CONTACT: Rex Baumback, Timber Sale Contract Administration Specialist, Forest Management, at (202) 205-0855.

SUPPLEMENTARY INFORMATION:

Background

The National Forest Management Act of 1976 (16 U.S.C. 472a(14)(c)) requires timber sale purchasers to provide the Forest Service with timber sale operating plans on timber sales with contracts that exceed 2 years in length. The timber sale operating plans are collected within 60 days following the award of timber sale contracts and annually, thereafter, until the timber has been harvested. The timber sale contract requires the timber sale purchaser to update the timber sale operating plan annually.

Description of Information Collection

The following describes the information collection to be extended:

Title: Timber Operating Plans.

OMB Number: 0596-0086.

Expiration Date of Approval: May 31, 2000.

Type of Request: Extension of an information collection previously approved by the Office of Management and Budget.

Abstract: The collected information is used by the agency to plan the agency's timber sale contract administration workload and to determine whether a timber sale purchaser's scheduled timber operation has been delayed and is, therefore, eligible for an extension of the contract termination date. The collected information also is used to facilitate the administration of a timber sale contract.

Timber sale purchasers provide information that includes planned periods of major activity, how the activity will be conducted, and any anticipated road construction. The timber sale purchaser also outlines time frames and methods of accomplishing road construction, timber harvesting, and other contract requirements.

There is no prescribed format for the collection of this information. Timber sale purchasers may submit the required information in the form of a chart or letter using surface mail, electronic mail, or via facsimile. The information is based on the timber sale purchaser's business plan.

Respondents are National Forest System timber sale purchasers who prepare a chart or letter within 60 days of a timber sale contract award and annually thereafter, until the contract has been completed.

Data gathered in this information collection are not available from other sources.

Estimate of Annual Burden: 30 minutes.

Type of Respondents: Purchasers of National Forest System timber.

Estimated Annual Number of Respondents: 2500.

Estimated Annual Number of Responses per Respondent: 1.5.

Estimated Total Annual Burden on Respondents: 1,875 hours.

Comment Is Invited

The agency invites comments on (a) whether the proposed collection of information is necessary for the stated purposes and the proper performance of the functions of the agency, including whether the information will have practical or scientific utility; (b) the accuracy of the agency's estimate of the burden of the proposed collection of information, including the validity of the methodology and assumptions used; (c) ways to enhance the quality, utility, and clarity of the information to be collected; and (d) ways to minimize the burden of the collection of information on respondents, including the use of automated, electronic, mechanical, or other technological collection techniques or other forms of information technology.

Use of Comments

All comments received in response to this notice, including names and addresses when provided, will become a matter of public record. Comments will be summarized and included in the request for Office of Management and Budget approval.

Dated: June 15, 2000.
Paul Brouha,
Associate Deputy Chief, NFS.

[FR Doc. 00-16211 Filed 6-26-00; 8:45 am]

BILLING CODE 3410-11-U